DEPARTMENT OF COMMERCE

National Oceanic and Atmospheric Administration

50 CFR Part 635

[Docket No. 220919-0193; RTID 0648-XF426]

Atlantic Highly Migratory Species; Atlantic Bluefin Tuna Fisheries; General Category January Through March Quota Transfer

AGENCY: National Marine Fisheries Service (NMFS), National Oceanic and Atmospheric Administration (NOAA), Commerce.

ACTION: Temporary rule; quota transfer.

SUMMARY: NMFS is transferring 26.0 metric tons (mt) of Atlantic bluefin tuna (BFT) quota from the General category December 2026 subquota to the January through March 2026 subquota period. The adjusted General category January through March 2026 subquota is 63.7 mt and the adjusted December 2026 subquota is 11.0 mt. This action is intended to provide further harvest opportunities for General category fishermen, based on consideration of the regulatory determination criteria regarding inseason adjustments and applies to Atlantic Tunas General category (commercial) permitted vessels and Atlantic Highly Migratory Species (HMS) Charter/Headboat permitted vessels with a commercial sale endorsement when fishing commercially for BFT. Note that NMFS intends to take separate rulemaking action as soon as possible in 2026 to consider modifying the baseline BFT quota consistent with the quota adopted at the 2025 International Commission for the Conservation of Atlantic Tunas (ICCAT) annual meeting.

DATES: The quota transfer is effective January 8, 2026, through March 31, 2026.

FOR FURTHER INFORMATION CONTACT: Ann Williamson, ann.williamson@noaa.gov, or Larry Redd, Jr., larry.redd@noaa.gov, by email or phone at 301-427-8503.

SUPPLEMENTARY INFORMATION: Atlantic BFT fisheries are managed under the 2006 Consolidated HMS Fishery Management Plan (FMP) and its amendments, pursuant to the Magnuson-Stevens Fishery Conservation and Management Act (Magnuson-Stevens Act; 16 U.S.C. 1801 et seq.) and consistent with the Atlantic Tunas Convention Act (ATCA; 16 U.S.C. 971 et seq.). HMS implementing regulations are at 50 CFR part 635. Section 635.27(a) divides the U.S. BFT quota, established by ICCAT and as implemented by the United States among the various domestic fishing categories, per the allocations established in the HMS FMP and its amendments. NMFS is required under the Magnuson-Stevens Act at 16 U.S.C. 1854(g)(1)(D) to provide U.S. fishing vessels with a reasonable opportunity to harvest quotas under relevant international fishery agreements such as the ICCAT Convention, which is implemented domestically pursuant to ATCA.

As described in § 635.27(a), the current baseline U.S. BFT quota is 1,316.14 mt (not including the 25 mt ICCAT allocated to the United States to account for bycatch of BFT in pelagic longline fisheries in the Northeast Distant Gear Restricted Area per § 635.27(a)(3)). The General category baseline quota is 710.7 mt. The General category baseline quota is suballocated to time periods. Relevant to this action, the baseline subquotas for the January through March time period and for the December time period are 37.7 mt and 37.0 mt, respectively.

Separate from this action, NMFS is working on a rulemaking that would implement the 2025 ICCAT recommendation (Recommendation 25-05) regarding western BFT management. Consistent with that recommendation, the separate rulemaking action would consider increasing the baseline U.S. BFT quota from 1,316.14 mt to 1,509.98 mt and adjusting any subquotas as needed accordingly. In the next few months, NMFS expects to issue a proposed rule regarding the overall quota increase and resulting subquota calculations. Any final rule implementing ICCAT Recommendation 25-05 would likely be effective in mid-2026 or later.

Transfer From the December 2026 Subquota to the January Through March 2026 Subquota

Under § 635.27(a)(1)(ii), NMFS has the authority to transfer subquota from one time period to another time period through inseason action after considering determination criteria provided under § 635.27(a)(7). This section focuses on the calculations involved in transferring quota currently available from the 2026 General category December time period subquota to the 2026 General category January through March time period subquota; the consideration of the determination criteria can be found below after this section.

As stated above, the current baseline subquotas for the January through March time period and for the December time period are 37.7 mt and 37.0 mt, respectively. Transferring 26.0 mt from the General category December time period to the General category January through March time period, results in an adjusted January through March time period subquota of 63.7 mt (37.7 mt + 26.0 mt = 63.7 mt), and an adjusted December time period subquota of 11.0 mt (37.0 mt−26.0 mt = 11.0 mt). The General category quota is available for use by Atlantic Tunas General category (commercial) permitted vessels and HMS Charter/Headboat permitted vessels with a commercial sale endorsement when fishing commercially for BFT. In previous years, NMFS has taken similar action to transfer quota from the General category December subquota to the January through March time period subquota (e.g., 90 FR 2638, January 13, 2025).

In summary, this transfer results in an adjusted January through March 2026 time period subquota of 63.7 mt and an adjusted December 2026 subquota of 11.0 mt. The General category fishery will remain open until March 31, 2026, or until the adjusted January through March 2026 time period subquota is reached, whichever comes first.

Consideration of the Relevant Determination Criteria

NMFS has considered all of the relevant determination criteria and their applicability to this inseason quota transfer (§ 635.27(a)(7)). These criteria include, but are not limited to, the following:

Regarding the usefulness of information obtained from catches in the particular category for biological sampling and monitoring of the status of the stock (§ 635.27(a)(7)(i)), biological samples collected from BFT landed by General category fishermen and provided by BFT dealers continue to provide NMFS with valuable parts and data for ongoing scientific studies of BFT age and growth, migration, and reproductive status. Additional opportunity to land BFT in the General category during the January-March time period would support the continued collection of a broad range of data for these studies and for stock monitoring purposes.

NMFS also considered the catches of the General category quota in the December and January through March time periods over the last several years and the likelihood of closure of the January through March segment of the fishery if no adjustment is made (§ 635.27(a)(7)(ii) and (ix)), as well as daily landing trends and the availability of BFT on fishing grounds (§ 635.27(a)(7)(ix)). Without a quota transfer at this time, based on recent catch rates in comparison to the current available quota (37.7 mt), NMFS would likely need to close the General category fishery shortly. Once the fishery is closed, participants would have to stop BFT fishing activities until the next time period begins in June, even though commercial-sized BFT remain available in the areas where General category permitted vessels operate. A quota transfer at this time provides limited additional opportunities to harvest the U.S. BFT quota while avoiding exceeding it.

Regarding the projected ability of the vessels fishing under the General category to harvest the additional amount of BFT quota transferred before the end of the fishing year (§ 635.27(a)(7)(iii)), NMFS considered General category landings over the last several years and landings to date this year. Landings are highly variable and depend on access to commercial-sized BFT and fishing conditions, among other factors. NMFS may adjust each time period's subquota based on overharvest or underharvest in the prior time period and may transfer subquota from one time period to another time period. By allowing for the current quota transfer, NMFS anticipates that the General category quota would be used before the end of the fishing year. Additionally, this quota transfer would allow General category fishermen to take advantage of the current availability of BFT on the fishing grounds and provide a reasonable opportunity to harvest the available U.S. BFT quota.

NMFS also considered the estimated amounts by which quotas for other gear categories of the fishery might be exceeded (§ 635.27(a)(7)(iv)) and the ability to account for all 2026 landings and dead discards (§ 635.27(a)(7)(xi)). With the exception of 2024, the total U.S. BFT landings in recent years are typically below the available U.S. quota such that the United States has carried forward the maximum amount of underharvest allowed by ICCAT from one year to the next. When total U.S. BFT landings are above the available U.S. quota, the United States reduces the next year's quota by the overharvest amount. NMFS will need to account for 2026 landings and dead discards within the adjusted U.S. quota, consistent with ICCAT recommendations, and anticipates having sufficient quota to do so.

NMFS also considered the effects of the transfer on the BFT stock and on accomplishing the objectives of the HMS FMP (§ 635.27(a)(7)(v) and (vi)). This transfer would be within established quotas and subquotas, which are implemented consistent with ICCAT recommendations, ATCA, and the objectives of the HMS FMP and amendments. In establishing these quotas and subquotas and associated management measures, ICCAT and NMFS considered the best scientific information available, objectives for stock management and status, and effects on the stock. This quota transfer is in line with the established management measures and stock status determinations. Another principal consideration is the objective of providing opportunities to harvest the available General category quota without exceeding the annual quota, based on the objectives of the HMS FMP and its amendments, including to achieve optimum yield on a continuing basis and to allow all permit categories a reasonable opportunity to harvest available BFT quota allocations (related to § 635.27(a)(7)(x)). Specific to the General category, this includes providing opportunities equitably across all time periods.

Monitoring and Reporting

NMFS will continue to monitor the BFT fishery closely. Per § 635.5(b)(2)(i)(A), dealers are required to submit landing reports within 24 hours of a dealer receiving BFT. Late reporting by dealers compromises NMFS' ability to timely implement actions such as quota and retention limit adjustments, as well as closures, and may result in enforcement actions. Additionally, and separate from the dealer reporting requirement, General category and HMS Charter/Headboat permitted vessel owners are required per § 635.27(a)(4) to report their own catch of all BFT retained or discarded dead within 24 hours of the landing(s) or end of each trip, by accessing https://hmspermits.noaa.gov, using the HMS Catch Reporting app, or calling 888-872-8862 (Monday through Friday from 8 a.m. until 4:30 p.m. Eastern Time).

Depending on the level of fishing effort and catch rates of BFT, NMFS may determine that additional adjustments are necessary to ensure available subquotas are not exceeded in 2026 or to enhance scientific data collection from, and fishing opportunities in, all geographic areas as specified under § 635.27(a)(7). If needed, subsequent adjustments will be published in the Federal Register. In addition, fishermen may access https://hmspermits.noaa.gov/home, for updates on quota monitoring and inseason adjustments.

Classification

NMFS issues this action pursuant to section 305(d) of the Magnuson-Stevens Act (16 U.S.C. 1855(d)) and regulations at 50 CFR part 635 and this action is exempt from review under Executive Order 12866.

The Assistant Administrator for NMFS (AA) finds that pursuant to 5 U.S.C. 553(b)(B), there is good cause to waive prior notice of, and opportunity for public comment on, this action because it is impracticable and contrary to the public interest for the following reasons. Specifically, the regulations implementing the HMS FMP and amendments provide for inseason adjustments and quota transfers to respond to the unpredictable nature of BFT availability on the fishing grounds, the migratory nature of this species, and the regional variations in the BFT fishery. Providing prior notice and an opportunity for public comment is impracticable and contrary to the public interest as this fishery is currently underway and, based on the most recent landings information, the 2026 January through March subquota is projected to be reached shortly. Delaying this action could result in BFT landings that exceed the 2026 January through March subquota. Additionally, a delay in implementing this transfer would preclude the fishery from harvesting BFT that are currently available on the fishing grounds and that might otherwise become unavailable. This action does not raise conservation and management concerns and would support effective management of the BFT fishery. Transferring quota from the General category December time period to the General category January through March time period does not affect the overall ICCAT-allocated U.S. BFT quota. NMFS notes that the public had an opportunity to comment on the underlying rulemakings that established the U.S. BFT quota and the inseason adjustment criteria.

For all of the above reasons, the AA finds that pursuant to 5 U.S.C. 553(d)(3), there is good cause to waive the 30-day delay in effective date.

Authority: 16 U.S.C. 971 et seq. and 1801 et seq.

Dated: January 8, 2026.
Kelly Denit,
Director, Office of Sustainable Fisheries, National Marine Fisheries Service.

[FR Doc. 2026-00392 Filed 1-8-26; 4:15 pm]

BILLING CODE 3510-22-P